DEPARTMENT OF THE INTERIOR

Bureau of Land Management

[CO-110-1220-BG]

Closure To Use of Public Lands in Colorado

AGENCY: Bureau of Land Management (BLM), Interior.

ACTION: Notice of closure.

SUMMARY: The Bureau of Land Management (BLM) gives notice that the area known locally as the South Face of China Wall in Colorado is closed to discharging of firearms.

EFFECTIVE DATE: This closure is effective October 15, 2003, and remains in effect until rescinded or modified by the Field Office Manager.

ADDRESSES: Maps showing the location of and information pertaining to the above closure are available at the BLM, White River Field Office, 73544 Highway 64, Meeker, Colorado 81641.

SUPPLEMENTARY INFORMATION: Under 43 CFR 8364, the following area (South Face of China Wall) is closed to discharging of firearms:

Township 1 North, Range 94 West, 6th Principal Meridian

Section 15: E½SE¼NE¼, E½SE¼, SW¼SE¼

Section 21: E½E½SE¼, SE¼SE¼NE¼

Section 22: NW¼

Containing approximately 200 acres more or less of public land.

This closure is necessary to protect the public in general, more specifically people and property located adjacent to the area identified in the above legal land description and the boundary of the Town of Meeker. The Town of Meeker and Rio Blanco County officials support this closure.

FOR FURTHER INFORMATION CONTACT: For further information contact Chris Ham, Recreation Specialist, or Kent E. Walter, Field Office Manager, BLM, White River Field Office, 73544 Highway 64, Meeker, Colorado 81641, at (970) 878-3800.

Dated: September 30, 2003.
Kent E. Walter,
Field Office Manager.

[FR Doc. 03-28964 Filed 11-19-03; 8:45 am]

BILLING CODE 4310-JB-P